DEPARTMENT OF HEALTH AND HUMAN SERVICES

Administration on Aging

Delegation of Authority

Notice is hereby given that I have delegated to the Assistant Secretary for Aging the authority under Title II, Older Americans Act Amendments of 2000, Public Law 106-501, to execute functions pertaining to the White House Conference on Aging.

This delegation shall be exercised under the Department's existing delegation and policy on regulations consistent with the statutory requirements for conducting the White House Conference on Aging.

I have ratified the actions taken by the Assistant Secretary for Aging or other White House Conference on Aging officials that involve the exercise of this authority prior to the effective date of this delegation.

This delegation was effective on the date of signature.

Dated: December 29, 2004.
Tommy G. Thompson,
Secretary.

[FR Doc. 05-799 Filed 1-13-05; 8:45 am]

BILLING CODE 4154-01-M